DEPARTMENT OF STATE

[Public Notice: 11020]

United States Proposals and Positions for the U.S. Delegation to the 2020 World Telecommunication Standardization Assembly (WTSA-2020)

ACTION: Notice and request for public comment.

SUMMARY: The U.S. Government seeks input from stakeholders and interested parties to help develop its proposals and positions for the U.S. Delegation regarding matters that will be addressed at the upcoming 2020 World Telecommunication Standardization Assembly (WTSA-2020) of the International Telecommunication Union (ITU), being held November 17-27, 2020 in Hyderabad, India. The results of this Notice and Request for Public Comment will be taken into account as the United States develops proposals and positions for WTSA-2020, a process which is being coordinated by the U.S. Department of State.

DATES: Comments are due on or before February 21, 2020.

ADDRESSES: Written comments may be submitted by mail to Adam Lusin, Director, Office of International Communications and Information Policy, Bureau of Economic & Business Affairs, 2201 C Street NW, Room 4634, Washington, DC 20520. Comments may also be submitted electronically to LusinAW@state.gov and ITAC@state.gov. Comments provided electronically should be submitted in a text searchable format using standard Microsoft Word or Adobe PDF. Comments will be posted to the State Department website at https://www.state.gov/international-telecommunication-advisory-committee/.

FOR FURTHER INFORMATION CONTACT: For questions about this Notice contact: Adam Lusin, Director, Office of International Communications and Information Policy, Bureau of Economic & Business Affairs, 2201 C Street NW, Room 4634, Washington, DC 20520; telephone: (202) 647-5834; email: LusinAW@state.gov. Please direct media inquiries to the Office of Public Affairs, State Dept., at (202) 647-6575.

SUPPLEMENTARY INFORMATION: Background: The International Telecommunication Union (ITU) Telecommunication Standardization Sector (ITU-T) World Telecommunication Standardization Assembly (WTSA), held every four years, sets the sector's overall strategic direction and activities for the next four years; defines ITU-T's general policy; approves, modifies, or rejects ITU-T Standards (known as “Recommendations”); and establishes the ITU-T study groups' structure, approves their work program for the next four-year period, and appoints their Chairmen and Vice-Chairmen. The next WTSA conference (WTSA-20) will be held November 17-27, 2020 in Hyderabad, India. Participants historically include ministers, ambassadors, government regulators and policymakers, regional and international organizations, and representatives from academia, civil society, and industry.

The United States Government seeks input from stakeholders and other interested parties to develop and refine the U.S. approach for participation at WTSA-20 and in the ITU-T more broadly. Under the auspices of the U.S. Department of State's International Telecommunications Advisory Committee (ITAC), the United States' preparatory process is intended to ensure U.S. proposals and positions are consistent with U.S. international digital economy policy, reinforce our approach to international standards, reflect and advance U.S. priorities and approaches, and foster an environment that promotes economic growth and technological innovation.

Discussion: The United States approach to international standards supports open, private sector-led, transparent, consensus-based processes that help lead to timely, robust, market-relevant, and technically appropriate standards. Given the number and range of telecommunication and information and communication technology standards being developed by a range of standards development organizations (SDOs), the discussions and negotiations at WTSA-20 will offer a valuable opportunity to shape the appropriate scope of work for the ITU-T within the international telecommunications/ICT standards ecosystem.

Purpose: The purpose of this Notice and Request for Public Comment is to seek input from stakeholders and interested parties to share their perspectives on whether and how the ITU-T's work produces standards that are impactful and meet current and evolving market needs. We are particularly interested in responses regarding ITU-T restructuring, working methods, and rules of procedure. We are further interested in views regarding U.S. participation in the various ITU-T study groups and information that can support the development of a longer-term United States vision and strategy regarding ITU-T engagement. Please provide insights on these areas as well as the specific questions outlined below.

Questions for Public Comment

Objectives and Priorities

(1) What overarching vision, objectives and priorities do you believe the U.S. delegation should adopt for WTSA-20 and for U.S. ongoing engagement in the ITU-T? What is the best way for the U.S. delegation to advance and ultimately achieve these objectives and priorities?

(2) In what areas or subjects do you believe the ITU-T has a particular role or expertise? What, if any, is the appropriate role for the ITU-T in developing standards in areas of emerging technologies? How do ITU standards and related standards development activities influence or affect U.S. industry interests in the global digital economy?

(3) Do all ITU-T Recommendations conform to general U.S. goals for international standards in that they are market-relevant, timely, robust and fit for purpose?

Working Methods and Rules of Procedure

(4) How are the procedures and working methods of ITU-T more or less effective than those of other standards setting organizations in enabling the development of market-relevant timely, robust and fit for purpose standards?

(5) What, if any, modifications to the ITU-T working methods or study group structure would you recommend to improve the quality and effectiveness of the ITU-T's work?

(6) What metrics might be used to measure the value and effectiveness of the ITU-T's outputs?

Participation

(7) In what way does your organization participate in the work of the ITU-T? What factors inform your organizations' participation in the standards development work of ITU-T? For the immediate future, are you looking to increase or reduce your participation in the work of ITU-T? Why?

(8) Assuming the ITU-T study group structure remains as it is today, in which study groups and activities should the United States government prioritize its participation and why?

Capacity-Building, Cooperation and Collaboration

(9) What are your recommendations for how the ITU-T can best address the needs of developing countries regarding international standards development? Would ITU programs related to development and capacity building be better placed within the ITU Development Sector (ITU-D) or the ITU-T? How might the ITU address regional or developing country needs within its work or in its engagement with other SDOs?

(10) What changes, if any, to ITU-T's methods of working with other standards and specification setting organizations would provide you value or benefit?

Franz J. Zichy,
Designated Federal Officer.

[FR Doc. 2020-02216 Filed 2-3-20; 8:45 am]

BILLING CODE 4710-07-P